DEPARTMENT OF HEALTH AND HUMAN SERVICES

National Institutes of Health

National Cancer Institute; Amended Notice of Meeting

Notice is hereby given of a change in the meeting of the National Cancer Institute Special Emphasis Panel, November 12, 2020, 10:00 a.m. to November 12, 2020, 5:00 p.m., National Cancer Institute Shady Grove, Rockville, MD 20850 which was published in the Federal Register on September 04, 2020, 85 FR 55308.

This notice is being amended to change the meeting start time from 10:00 a.m. to 1:00 p.m. The meeting will now be held from 1:00 p.m. to 5:00 p.m. on November 12, 2020. The meeting is closed to the public.

Dated: October 5, 2020.
Melanie J. Pantoja,
Program Analyst, Office of Federal Advisory Committee Policy.

[FR Doc. 2020-22437 Filed 10-8-20; 8:45 am]

BILLING CODE 4140-01-P